DEPARTMENT OF HOMELAND SECURITY

Coast Guard

[Docket No. USCG-2009-0377]

Health Information Privacy Program

AGENCY: Coast Guard, DHS.

ACTION: Notice.

SUMMARY: The Coast Guard announces provisions to allow for appropriate uses and disclosures of protected health information concerning members of the Armed Forces to assure the proper execution of the military mission. This notice updates information the Coast Guard provided on April 28, 2003 (68 FR 22407). A similar notice was published by the Department of Defense for members of the Armed Forces within their jurisdiction (68 FR 17357, Apr. 9, 2003).

DATES: This notice is effective on June 5, 2009.

ADDRESSES: The docket for this notice is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, selecting the Advanced Docket Search option on the right side of the screen, inserting USCG-2009-0377 in the Docket ID box, pressing Enter, and then clicking on the item in the Docket ID column.

FOR FURTHER INFORMATION CONTACT: If you have questions on this notice, call or e-mail, LCDR Michael Clay, Health Insurance Portability and Accountability Act (HIPAA) Privacy & Security Officer, Office of Health Services, Health, Safety, and Work-Life Directorate, U.S. Coast Guard Headquarters, 2100 Second Street, SW., Washington, DC 20593-0001, telephone 202-475-5209, e-mail Michael.C.Clay@uscg.mil. If you have questions on viewing or submitting material to the docket, call Renee V. Wright, Program Manager, Docket Operations, telephone 202-366-9826.

SUPPLEMENTARY INFORMATION:

Background and Purpose

Under 45 CFR part 164, “Standards for Privacy of Individually Identifiable Health Information,” a covered entity may use and disclose the protected health information of individuals who are Armed Forces personnel for activities deemed necessary by appropriate military command authorities to assure the proper execution of the military mission. However, the appropriate military authority must publish a notice in the Federal Register indicating the appropriate military command authorities and the purposes for which the protected health information may be used or disclosed (45 CFR 164.512(k)). The Coast Guard first published a notice in the Federal Register on April 28, 2003 (68 FR 22407). The Department of Defense published a notice with respect to members of the Armed Forces within the jurisdiction of that Department (68 FR 17357, Apr. 9, 2003).

This June 5, 2009 notice updates the Coast Guard's April 28, 2003, notice, and implements the provisions of 45 CFR part 164 with respect to members of the Coast Guard or members of the other Armed Forces falling within the Coast Guard's jurisdiction. This notice updates the April 28, 2003, notice by adding current versions to references noted in paragraphs 3.1 and 3.3, and adding the reference, Commandant Instruction (COMDTINST) 6150.3 (series), to paragraph 3.1.

Under 45 CFR 164.512(k)(1)(i), the Coast Guard has established the following provisions:

1. General rule. A covered entity (including a covered entity not part of or affiliated with the Department of Homeland Security) may use and disclose the protected health information of individuals who are Armed Forces personnel for activities deemed necessary by appropriate military command authorities to assure the proper execution of the military mission.

2. Appropriate Military Command Authorities. For purposes of paragraph 1, appropriate Military Command authorities are the following:

2.1. All Commanders who exercise authority over an individual who is a member of the Armed Forces, or other persons designated by such a Commander to receive protected health information in order to carry out an activity under the authority of the Commander.

2.2. The Secretary of Homeland Security, when the Coast Guard is not operating as a service in the Department of the Navy.

2.3. Any official delegated authority by the Secretary of Homeland Security to take an action designed to ensure the proper execution of the military mission.

3. Purposes for which protected health information may be used or disclosed. For purposes of paragraph 1, the purposes for which any and all of the protected health information of an individual who is a member of the Armed Forces may be used or disclosed are as follows:

3.1. To determine the member's fitness for duty, including but not limited to, the member's compliance with standards and all other activities carried out under the authority of COMDTINST M1020.8 (series), “Allowable Weight Standards for the Health and Well-being of Coast Guard Military Personnel”; COMDTINST M1850.2 (series), “Physical Disability Evaluation System”; COMDTINST 6150.3 (series), “Coast Guard Periodic Health Assessment (PHA)”; and similar requirements pertaining to fitness for duty.

3.2. To determine the member's fitness to perform any particular mission, assignment, order, or duty, including any actions required as a precondition to performance of such a mission, assignment, order, or duty.

3.3. To carry out activities under the authority of COMDTINST M6000.1 (series), “The Coast Guard Medical Manual,” chapter 12 (Occupational Medical Surveillance & Evaluation Program).

3.4. To report on casualties in any military operation or activity according to applicable Coast Guard regulations or procedures.

3.5. To carry out any other activity necessary to the proper execution of the mission of the Armed Forces.

This notice is issued under authority of 45 CFR 164.512(k) and 5 U.S.C. 552(a).

Dated: May 20, 2009.
Mark J. Tedesco,
Rear Admiral, USPHS, Director, Office of Health, Safety and Work-life, U.S. Coast Guard.

[FR Doc. E9-13105 Filed 6-4-09; 8:45 am]

BILLING CODE 4910-15-P